SURFACE TRANSPORTATION BOARD

[Docket No. EP 775]

Growth in the Freight Rail Industry

AGENCY: Surface Transportation Board.

ACTION: Notice of public hearing.

SUMMARY: The Surface Transportation Board (Board) will hold a public hearing on September 16 and 17, 2024, to gather information about recent trends and strategies for growth in the freight rail industry. The Board requests the attendance of executive-level officials from the BNSF Railway Company, Canadian National Railway Company, Canadian Pacific Kansas City Limited, CSX Transportation, Inc., Norfolk Southern Railway Company, and Union Pacific Railroad Company (collectively, “Class I railroads”). The Board also invites and welcomes testimony from industry analysts, other rail carriers, rail customers, rail suppliers, labor organizations, and other interested parties who can contribute to the Board's understanding of how the industry has grown and intends to grow in the future.

DATES: The hearing will be held on September 16 and 17, 2024, beginning at 9:30 a.m. ET each day, in the Hearing Room of the Board's headquarters and will be open for public observation. The hearing will also be available for public viewing on YouTube. Any person wishing to speak at the hearing must file with the Board a notice of intent to participate (identifying the party, proposed speaker, and amount of time requested) no later than August 14, 2024. In addition, written testimony from hearing participants, and written comments by any other interested persons, must be submitted by August 16, 2024

ADDRESSES: The hearing will be held in the Hearing Room of the Board's headquarters, located at 395 E Street SW, Washington, DC 20423-0001. All filings must be submitted via e-filing on the Board's website at www.stb.gov under the docket for EP 775, or in writing addressed to 395 E Street SW, Washington, DC 20423-0001. Filings will be posted to the Board's website and need not be served on the other hearing participants, written commenters, or any other party to the proceeding.

FOR FURTHER INFORMATION CONTACT: Jonathon Binet at (202) 245-0368. If you require an accommodation under the Americans with Disabilities Act, please call (202) 245-0245.

SUPPLEMENTARY INFORMATION: Freight rail is critically important to the nation's economy, and the Board has an interest in the health and growth of the industry and the need for rail customers to move their goods efficiently and reliably. On the subject of freight rail industry growth, while the Board recognizes that some shifts in volume may not be primarily within the control of rail carriers, the Board has observed that over the past ten years carload volumes have not grown, and have in fact decreased.¹ The Board wishes to explore how industry participants are strategizing and innovating to reverse this recent trend and achieve freight rail growth. For example, the Board is interested in the Class I railroads' short-, medium-, and long-term growth strategies, including investments, across traffic types. The Board would also like the perspective of short line railroads, who can present evidence of their own growth strategies. The Board is also interested in shippers' plans or desire for future use of rail, factors that may affect their shipment decisions, and what rail carriers are doing and can do to increase shippers' use of rail. This hearing presents a chance to discuss the opportunities for growth in the freight rail industry, as well as the challenges and effects associated with a failure to grow.

¹ See Federal Reserve Bank of St. Louis, Rail Freight Carloads, https://fred.stlouisfed.org/series/RAILFRTCARLOADSD11 (last updated June 12, 2024) (data collected by U.S. Dep't of Transportation, Bureau of Transportation Statistics).

The Board will hold a public hearing to explore these topics on September 16 and 17, 2024, beginning at 9:30 a.m. ET each day, at its headquarters in Washington, DC. In addition to requesting the attendance of executive-level officials from the Class I railroads, the Board invites and welcomes testimony from industry analysts, other rail carriers, rail customers, rail suppliers, labor organizations, and other interested parties. Participation at the hearing will be limited to those who file notices of intent to participate, and the Board will, in a subsequent decision, provide time limits for each speaker.

Board Releases and Transcript Availability: Decisions and notices of the Board, including this notice, are available on the Board's website at www.stb.gov. The Board will issue a separate notice containing the schedule of appearances. A transcript of the hearing will be posted on the Board's website once it is available.

It is ordered:

1. A public hearing will be held on September 16 and 17, 2024, beginning at 9:30 a.m. ET each day, in the Hearing Room of the Board's headquarters, located at 395 E Street SW, Washington, DC 20423-0001.

2. By August 14, 2024, any person wishing to speak at the hearing shall file with the Board a notice of intent to participate identifying the party, the proposed speaker(s), and the amount of time requested.

3. Written testimony from hearing participants and written comments from any other interested persons must be filed by August 16, 2024.

4. Filings will be posted to the Board's website and need not be served on any hearing participants or other commenters.

5. This decision is effective on its service date.

6. This decision will be published in the Federal Register.

By the Board, Scott M. Zimmerman, Acting Director, Office of Proceedings.
Tammy Lowery,
Clearance Clerk.

[FR Doc. 2024-15452 Filed 7-12-24; 8:45 am]

BILLING CODE 4915-01-P